ENVIRONMENTAL PROTECTION AGENCY

[ FRL-7803-5]

Proposed Consent Agreement and Covenant Not To Sue Pursuant to the Comprehensive Environmental Response, Compensation, and Liability Act of 1980, as Amended by the Superfund Amendments and Reauthorization Act of 1986; In Re: Elizabeth Mine Superfund Site, Located in South Strafford and Thetford, VT

AGENCY: Environmental Protection Agency.

ACTION: Notice of proposed agreement; request for public comment.

SUMMARY: In accordance with the Comprehensive Environmental Response Compensation, and Liability Act, as amended (“CERCLA”), 42 U.S.C. 9601, et. seq., notice is hereby given of a proposed Consent Agreement between the United States, on behalf of the U.S. Environmental Protection Agency (“EPA”) and Theodore Zagaeski (“Settling Party”). Under the terms of the proposed Agreement, Zagaeski will allow EPA to access and use up to 200,000 cubic yards of borrow material. Zagaeski will also allow continued access to the Site and agree to implement institutional controls at the Site. In exchange for this consideration, EPA will grant Zagaeski a covenant not to sue under sections 106 and 107(a) of CERCLA with regard to the site. Additionally, Zagaeski will be entitled to contribution protection for “matters addressed” in the Agreement.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted on or before September 20, 2004.

ADDRESSES: Comments should be addressed to the Regional Hearing Clerk, U.S. Environmental Protection Agency, Region I, One Congress Street, Suite 1100, Mailcode RAA, Boston, Massachusetts 02203, and should refer to: In re: Elizabeth Mine Superfund Site, U.S. EPA Docket No. CERCLA-01-2001-0054.

FOR FURTHER INFORMATION CONTACT: A copy of the proposed Consent Agreement can be obtained from Steven Schlang, U.S. Environmental Protection Agency, Region I, One Congress Street, Mailcode SES, Boston, Massachusetts 02214, (617) 918-1773.

Dated: August 12, 2004.
Susan Studlien,
Director of Office of Site Remediation and Restoration, Region I.

[FR Doc. 04-19151 Filed 8-19-04; 8:45 am]

BILLING CODE 6560-50-P